DEPARTMENT OF ENERGY

Office of Energy Efficiency and Renewable Energy

Proposed Agency Information Collection

AGENCY: Office of Energy Efficiency and Renewable Energy, U.S. Department of Energy.

ACTION: Notice and request for comments.

SUMMARY: The Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before July 22, 2011. If you anticipate difficulty in submitting comments within that period, contact the person listed in ADDRESSES as soon as possible.

ADDRESSES: Written comments may be sent to Carol Hellmann, 1617 Cole Boulevard, Building 17, Golden, CO 80401 or by e-mail at BudgetJustForm@go.doe.gov or by fax at 720-356-1550.

FOR FURTHER INFORMATION CONTACT: Requests for additional information or copies of the information collection instrument and instructions should be directed to Carol Hellmann, 1617 Cole Boulevard, Building 17, Golden, CO 80401, or by email at BudgetJustForm@go.doe.gov. The information collection instrument may also be viewed at http://www.eere.energy.gov/golden/Reading_Room.aspx.

SUPPLEMENTARY INFORMATION: This information collection request contains: (1) OMB No. New; (2) Information Collection Request Title: Detailed Budget Justification; (3) Type of Request: New; (4) Purpose: This collection of information is necessary in order for DOE to identify allowable, allocable, and reasonable recipient project costs eligible for Grants and Cooperative Agreements under EERE programs; (5) Annual Estimated Number of Respondents: 406; (6) Annual Estimated Number of Total Responses: 406; (7) Annual Estimated Number of Burden Hours: 24 hours, one response; (8) Annual Estimated Reporting and Recordkeeping Cost Burden: The estimated cost for the one time response is $875.76.

Authority: 10 CFR 600.112.

Issued in Washington, DC, on April 27, 2011.
Jamie Harris,
Director, Office of Acquisition and Financial Assistance, Golden Field Office.

[FR Doc. 2011-12593 Filed 5-20-11; 8:45 am]

BILLING CODE 6450-01-P